DEPARTMENT OF HEALTH AND HUMAN SERVICES

Announcement of Intent To Establish the 2025 Dietary Guidelines Advisory Committee and Solicitation of Nominations for Membership

AGENCY: U.S. Department of Health and Human Services (HHS), Office of the Assistant Secretary for Health; U.S. Department of Agriculture (USDA), Food, Nutrition, and Consumer Services.

ACTION: Notice.

SUMMARY: The Departments of Health and Human Services and Agriculture announce the intent to establish a Dietary Guidelines Advisory Committee and invite nominations for the Committee.

DATES: Nominations must be submitted by 11:59 p.m. Eastern Time on July 15, 2022.

ADDRESSES: Nominations may be submitted by email to DietaryGuidelines@hhs.gov. Alternatively, nominations may be sent to: Dietary Guidelines Advisory Committee Nominations, Office of Disease Prevention and Health Promotion (ODPHP), Office of the Assistant Secretary for Health (OASH), HHS; 1101 Wootton Parkway, Suite 420; Rockville, MD 20852.

FOR FURTHER INFORMATION CONTACT: Janet de Jesus, MS, RD, Nutrition Advisor, telephone 240-453-8266, Office of Disease Prevention and Health Promotion, U.S. Department of Health and Human Services, DietaryGuidelines@hhs.gov.

SUPPLEMENTARY INFORMATION:

Authority and Purpose: Section 301 of the National Nutrition Monitoring and Related Research Act of 1990 (7 U.S.C. 5341) requires the Secretaries of HHS and USDA to publish the Dietary Guidelines for Americans (Dietary Guidelines) jointly at least every five years. The law instructs that this publication shall contain nutritional and dietary information and guidelines for the general public, shall be based on the preponderance of scientific and medical knowledge current at the time of publication, and shall be promoted by each federal agency in carrying out any federal food, nutrition, or health program. The current edition of the Dietary Guidelines (2020-2025) provides guidance on the entire life span, from birth to older adulthood, including pregnancy and lactation. The Dietary Guidelines for Americans, 2025-2030 will continue to provide food-based dietary guidance across the entire lifespan to help meet nutrient needs, promote health, and reduce the risk of chronic disease.

The 2025 Dietary Guidelines Advisory Committee (Committee) shall be formed and governed under the provisions of the Federal Advisory Committee Act (FACA), Public Law 92-463, as amended (5 U.S.C., App), which sets forth standards for the formation and use of advisory committees. The Committee is established to provide independent, evidence-based advice and recommendations to be considered by HHS and USDA in the Departments' development of the Dietary Guidelines for Americans, 2025-2030. The Committee's review and advice will focus on the scientific questions prioritized by HHS and USDA with the potential to inform nutrition guidance for Americans across the lifespan. Formation of the Committee is necessary to adequately review the science to inform the Dietary Guidelines and is in the public interest.

The Committee is expected to begin meeting in early 2023; the Committee will meet approximately five times during its operation. Pursuant to the FACA, all Committee meetings will be open to the public. The Committee will be established to accomplish a single, time-limited task. The Committee will develop a scientific report of its recommendations that will be submitted to the Secretaries of HHS and USDA. Upon delivery of its report to the Secretaries or when the Committee's charter expires two years after it is filed, the activities of the Committee will be terminated.

Structure: The Committee will consist of 15 to 20 members, including the Chair and Vice-Chairperson. Factors to be considered in selecting individuals to serve on the Committee include educational background, professional experience, and demonstrated scientific expertise in the issues to be examined by the Committee, as well as statutory obligations under FACA and desire for a balanced and diverse membership.

Expertise in human nutrition related to disease prevention and health promotion for the specific scientific topics identified by the Departments to be examined by the Committee will be sought. Expertise will also be sought related to health equity and the scientific approaches used to review the evidence (systematic reviews, food pattern modeling, and data analysis). Information on the scientific topics is available at www.dietaryguidelines.gov.

Equal opportunity practices regarding membership appointments to the Committee will be aligned with HHS and USDA policies. To the extent possible, HHS and USDA will ensure the Committee membership is balanced in expertise, experience, education, and institutional affiliation and is reflective of the racial, ethnic, gender, and geographic diversity within the United States.

Individuals will be appointed to serve as members of the Committee to evaluate the scientific evidence, not to represent the viewpoints of any specific group. Members of the Committee will be classified as Special Government Employees (SGE)s during their term of appointment and, as such, are subject to the ethical standards of conduct for federal employees. Upon entering the position and annually throughout the approximate 2-year term of appointment, members of the Committee will be required to complete and submit a report of their financial holdings.

Nominations and Appointments for Memberships: Nominees, including self-nominees, will be considered for appointment as members of the Committee. Only complete nomination packages submitted within the allotted time period will be considered. To be considered for an appointment, submission of the following information for each nominee is required: (1) a cover letter that clearly states the name and place of work of the nominee, the rationale for the nomination (i.e., which specific topics they have expertise in, highlighting relevant experience in health equity and the scientific approaches used by the Committee, if applicable), and a statement that the nominee would be willing to serve as a member of the Committee, if selected; (2) the name, address, telephone number, and email address for the individual being nominated and the nominator, if applicable; and (3) a copy of the nominee's curriculum vitae, limited to no more than 15 pages.

The curriculum vitae should include the following information: (a) education; (b) experience (current and former); (c) affiliations (food, nutrition, public health, and/or other relevant associations, including positions held); (d) current memberships (expert panels, committees, or other relevant groups, including positions held); (e) peer-reviewed publications (for past 10 years); (f) oral presentations (for past 5 years); (g) editorials, opinion pieces, and blogs (for past 5 years); (h) grants, contracts, or research funding (for past 15 years); (i) name of any corporation, professional society, association, panel, company, firm, government agency (federal, state, and local), research organization, educational institution, committee, or other organization or institution (government, private, and not-for-profit; domestic and foreign) in which the nominee's services have been, will be, or are expected to be provided, with or without compensation, including on a part-time or seasonal basis as an officer, medical staff, board member, owner, trustee, director, expert advisor, consultant, official spokesperson, member of speakers bureau, or expert witness (for past 10 years and upcoming); (j) other paid travel or honoraria received, not included above (for past 5 years). If the nominee does not have anything to report for the section(s), indicate “none.” Web links to publications, presentations, and other materials available online are requested, when available.

Where prohibited by federal law or regulations, nominations will not be accepted directly from USDA research and promotion boards. Self-nominations and nominations by members of research and promotion boards in their individual capacity will be considered. Federal employees should not be nominated for consideration for appointment to this Committee.

Rachel L. Levine,
ADM, Assistant Secretary for Health, U.S. Department of Health and Human Services.

[FR Doc. 2022-12865 Filed 6-14-22; 8:45 am]

BILLING CODE 4150-32-P